FEDERAL EMERGENCY MANAGEMENT AGENCY

44 CFR Part 65

[Docket No. FEMA-P-7602]

Changes in Flood Elevation Determinations

AGENCY: Federal Emergency Management Agency (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Acting Executive Associate Director for Mitigation reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Mitigation Directorate, FEMA, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4. National Environmental Policy Act. This rule is categorically excluded from the requirements of 44 CFR Part 10, Environmental Consideration. No environmental impact assessment has been prepared.

Regulatory Flexibility Act. The Acting Executive Associate Director for Mitigation certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Arkansas: Washington | City of Springdale | April 20, 2001, April 27, 2001, The Morning News of Northwest Arkansas | The Honorable Jerre Van Hoose, Mayor, City of Springdale, 201 Spring Street, Springdale, Arkansas 72764 | July 27, 2001 | 050219
Illinois: Lake | City of Waukegan | March 22, 2001, March 29, 2001, Chicago Tribute | The Honorable Bill Durkin, Mayor, City of Waukegan, 106 North Utica, Waukegan, Illinois 60085 | June 29, 2001 | 170397
Kansas: Johnson | City of Shawnee | February 8, 2001, February 15, 2001, Topeka Capital-Journal | The Honorable Jim Allen, Mayor, City of Shawnee, City Hall, 11110 Johnson Drive, Shawnee, Kansas 66203 | January 18, 2001 | 200177
Oklahoma: Oklahoma | City of Edmond | May 17, 2001, May 24, 2001, The Edmond Sun | The Honorable Bob Rudkin, Mayor, City of Edmond, P. O. Box 202, Edmond, Oklahoma 73083 | August 23, 2001 | 400252
Oklahoma: Pottawatomie | City of Shawnee | April 20, 2001, April 27, 2001, The Shawnee News-Star | The Honorable Chris Harden, Mayor, City of Shawnee, P. O. Box 1448, Shawnee, Oklahoma 74802 | July 27, 2001 | 400178
Texas: Potter and Randall | City of Amarillo | February 1, 2001, February 8, 2001, Amarillo Daily News | The Honorable Kel Seliger, Mayor, City of Amarillo, P. O. Box 1971, Amarillo, Texas 79105 | May 10, 2001 | 480529
Texas: Collin | Unincorporated Areas | January 18, 2001, January 25, 2001, Plano Star Courier | Mr. William J. Roberts, 210 South McDonald, McKinney, Texas 75069 | April 26, 2001 | 480130
Texas: Denton | City of Denton | March 23, 2001, March 30, 2001, Denton Record Chronicle | The Honorable Euline Brock, Mayor, City of Denton, 215 East McKinney Street, Denton, Texas 76201 | March 9, 2001 | 480194
Texas: Denton | Unincorporated Areas | March 23, 2001, March 30, 2001, Denton Record Chronicle | The Honorable Kirk Wilson, Denton County Judge, Courthouse-on-the-Square, 110 West Hickory Street, Denton, Texas 76201-0000 | March 9, 2001 | 480774
Texas: Tarrant | City of Euless | February 22, 2001, March 1, 2001, Fort Worth Star Telegram | The Honorable Mary Lib Saleh, Mayor, City of Euless, 201 North Ector Drive, Euless, Texas 76039 | January 25, 2001 | 480593
Texas: Dallas and Collin | City of Garland | April 12, 2001, April 19, 2001, Garland News | The Honorable Jim Spence, Mayor, City of Garland, 200 North 5th Street, Garland, Texas 786046-9002 | July 19, 2001 | 485471
Texas: Tarrant, Dallas and Ellis | City of Grand Prairie | April 19, 2001, April 26, 2001, Arlington Morning News | The Honorable Charles England, Mayor, City of Grand Prairie, 317 College Street, P. O. Box 534045, Grand Prairie, Texas 75053-4045 | March 29, 2001 | 485472
Texas: Dallas | City of Irving | January 18, 2001, January 25, 2001, Irving News | The Honorable Joe H. Putnam, Mayor, City of Irving, P. O. Box 152288, Irving, Texas 75060 | April 26, 2001 | 480180
Texas: Dallas | City of Irving | March 15, 2001, March 22, 2001, Irving News | The Honorable Joe H. Putnam, Mayor, City of Irving, P. O. Box 152288, Irving, Texas 75060 | February 20, 2001 | 480180
Texas: Montgomery | Unincorporated Areas | March 23, 2001, March 30, 2001, Conroe Courier | The Honorable Alan B. Sadler, Montgomery County Judge, 300 North Thompson Street, Suite 210, Conroe, Texas 77301 | June 29, 2001 | 480483
Texas: Collin | City of Plano | January 18, 2001, January 25, 2001, Plano Star Courier | The Honorable Jeran Akers, Mayor, City of Plano, P. O. Box 860358, Plano, Texas 75074 | April 26, 2001 | 480140

(Catalog of Federal Domestic Assistance No. 83.100, “Flood Insurance”)

Dated: May 30, 2001.
Margaret E. Lawless,
Acting Executive Associate Director for Mitigation.

[FR Doc. 01-14572 Filed 6-8-01; 8:45 am]

BILLING CODE 6718-04-P